DEPARTMENT OF AGRICULTURE

Animal and Plant Health Inspection Service

[Docket No. APHIS-2016-0029]

Secretary's Advisory Committee on Animal Health; Meeting

AGENCY: Animal and Plant Health Inspection Service, USDA.

ACTION: Notice of meeting.

SUMMARY: This is a notice to inform the public of the next meetings of the Secretary's Advisory Committee on Animal Health. The meetings are being organized by the Animal and Plant Health Inspection Service to discuss matters of animal health.

DATES: The meetings will be held May 2, 2016, and June 16, 2016, from 11 a.m. to 1:30 p.m. eastern standard time.

ADDRESSES: The meetings will be conducted as multisite teleconferences. Opportunities for public attendance are described in the Supplementary Information section of this document.

FOR FURTHER INFORMATION CONTACT: Mrs. R.J. Cabrera, Designated Federal Officer, VS, APHIS, 4700 River Road, Unit 34, Riverdale, MD 20737; (301) 851-3478; email: SACAH.Management@aphis.usda.gov.

SUPPLEMENTARY INFORMATION: The Secretary's Advisory Committee on Animal Health (the Committee) advises the Secretary of Agriculture on matters of animal health, including means to prevent, conduct surveillance on, monitor, control, or eradicate animal diseases of national importance. In doing so, the Committee will consider public health, conservation of natural resources, and the stability of livestock economies.

Tentative topics for discussion during the May 2, 2016, meeting include:

• One Health

○ U.S. Department of Agriculture Antimicrobial Resistance Action Plan; and

○ Zoonotic Diseases.

Tentative topics for discussion during the June 16, 2016, meeting include:

• Emerging Disease Response; and

• Comprehensive Integrated Animal Health Surveillance.

A final agenda will be posted on the Committee Web site 2 weeks prior to each scheduled meeting.

Those wishing to listen in on the meetings should complete a brief registration form by clicking on the “SACAH Meeting Sign-up” button on the Committee's Web site (http://www.aphis.usda.gov/animalhealth/sacah). Members of the public may join the teleconference in “listen-only” mode by dialing 1-800-619-4086 and then entering the public passcode, 4414646# for the May 2 meeting, and 9786716# for the June 16 meeting.

Questions and written statements for the Committee's consideration may be submitted up to 5 working days before each scheduled meeting. They may be sent to SACAH.Management@aphis.usda.gov or mailed to the person listed in this notice under FOR FURTHER INFORMATION CONTACT. Statements filed with the Committee must include the name of the individual listed under FOR FURTHER INFORMATION CONTACT, the docket number listed in this notice, and specify the meeting to which they pertain.

This notice of meeting is given pursuant to section 10 of the Federal Advisory Committee Act (5 U.S.C. App. 2).

Done in Washington, DC, this 11th day of April 2016.
Kevin Shea,
Administrator, Animal and Plant Health Inspection Service.

[FR Doc. 2016-08651 Filed 4-14-16; 8:45 am]

BILLING CODE 3410-34-P